FEDERAL COMMUNICATIONS COMMISSION

47 CFR Part 64

[CG Docket No. 10-51; FCC 11-54]

Structure and Practices of the Video Relay Service Program

AGENCY: Federal Communications Commission.

ACTION: Final rule; announcement of effective date.

SUMMARY: In this document, the Commission announces that the Office of Management and Budget (OMB) has approved, for a period of three years, the information collection associated with the Commission's Structure and Practices of the Video Relay Service Program, Report and Order (Report and Order). The information collection requirements were approved on September 16, 2011 by OMB.

DATES: 47 CFR 64.604(c)(5)(iii)(C)(2), (3), (4), and (7); 64.604(c)(5)(iii)(M); 64.604(c)(5)(iii)(N)(1)(v); and 64.604(c)(5)(iii)(N)(2), published at 76 FR 24393, May 2, 2011, and corrected on May 27, 2011, published at 76 FR 30841 are effective September 26, 2011.

FOR FURTHER INFORMATION CONTACT: Diane Mason, Disability Rights Office, Consumer and Governmental Affairs Bureau, at (202) 418-7126, or e-mail Diane.Mason@fcc.gov.

SUPPLEMENTARY INFORMATION: This document announces that, on September 16, 2011, OMB approved, for a period of three years, the information collection requirements contained in 47 CFR 64.604(c)(5)(iii)(C)(2), (3), (4), and (7); 64.604(c)(5)(iii)(M); 64.604(c)(5)(iii)(N)(1)(v); and 64.604(c)(5)(iii)(N)(2). The Commission publishes this document to announce the effective date of these rule sections. See, In the Matter of Structure and Practices of the Video Relay Service Program, CG Docket No. 10-51; FCC 11-54, published at 76 FR 24393, May 2, 2011, and corrected on May 27, 2011, published at 76 FR 30841. If you have any comments on the burden estimates listed below, or how the Commission can improve the collections and reduce any burdens caused thereby, please contact Cathy Williams, Federal Communications Commission, Room 1-C823, 445 12th Street, SW., Washington, DC 20554. Please include the OMB Control Number, 3060-1145, in your correspondence. The Commission will also accept your comments via the Internet if you send them to PRA@fcc.gov.

To request materials in accessible formats for people with disabilities (Braille, large print, electronic files, audio format), send an e-mail to fcc504@fcc.gov or call the Consumer and Governmental Affairs Bureau at (202) 418-0530 (voice), (202) 418-0432 (TTY).

Synopsis

As required by the Paperwork Reduction Act of 1995 (Pub. L. 104-13, October 1, 1995 and 44 U.S.C. 3507), the FCC is notifying the public that it received OMB approval on September 16, 2011, for the information collection requirements contained in the Commission's rules at 47 CFR 64.604(c)(5)(iii)(C)(2), (3), (4), and (7); 64.604(c)(5)(iii)(M); 64.604(c)(5)(iii)(N)(1)(v); and 64.604(c)(5)(iii)(N)(2).

Under 5 CFR 1320, an agency may not conduct or sponsor a collection of information unless it displays a current, valid OMB Control Number.

No person shall be subject to any penalty for failing to comply with a collection of information subject to the Paperwork Reduction Act that does not display a current, valid OMB Control Number.

The OMB Control Number is 3060-1145 and the total annual reporting burdens and costs for the respondents are as follows:

OMB Control Number: 3060-1145.

OMB Approval Date: September 16, 2011.

OMB Expiration Date: September 30, 2014.

Title: Structure and Practices of the Video Relay Services Program; CG Docket No. 10-51.

Form Number: N/A.

Type of Review: Revision of a currently approved collection.

Respondents: Business or other for-profit.

Number of Respondents and Responses: 20 respondents; 1,423 responses.

Estimated Time per Response: .017 (1 minute) to 25 hours.

Frequency of Response: Annual, monthly, on occasion, one-time, and semi-annually reporting requirements; recordkeeping and third party disclosure requirements.

Obligation to Respond: Required to obtain or retain benefit. The statutory authority for the information collection requirements is found at Section 225 of the Communications Act, 47 U.S.C. 225. The law was enacted on July 26, 1990, as Title IV of the Americans with Disabilities Act, Public Law 101-336, 104 Stat. 327, 366-69.

Total Annual Burden: 4,632 hours.

Total Annual Cost: $35,600.

Nature and Extent of Confidentiality: An assurance of confidentiality is not offered because this information collection does not require the collection of personally identifiable information (PII) from individuals.

Privacy Impact Assessment: No impact(s).

Needs and Uses: On April 6, 2011, in document FCC 11-54, the Commission released a Report and Order, adopting final rules designed to eliminate the waste, fraud and abuse that has plagued the VRS program and had threatened its ability to continue serving Americans who use it and its long-term viability. The Report and Order contains information collection requirements with respect to the following eight requirements, all of which aims to ensure the sustainability and integrity of the TRS program and the TRS Fund. Though the Report and Order emphasizes VRS, many of the requirements also apply to other or all forms of TRS—which includes the adoption of the interim rule, several new information collection requirements; and all the proposed information collection requirements, except the “Transparency and the Disclosure of Provider Financial and Call Data” requirement, as previously proposed and published at 75 FR 51735, August 23, 2010.

(a) Provider Certification Under Penalty of Perjury. The Chief Executive Officer (CEO), Chief Financial Officer (CFO), or other senior executive of a TRS provider shall certify, under penalty of perjury, that: (1) Minutes submitted to the Interstate TRS Fund (Fund) administrator for compensation were handled in compliance with section 225 of the Act and the Commission's rules and orders, and are not the result of impermissible financial incentives, or payments or kickbacks, to generate calls, and (2) cost and demand data submitted to the Fund administrator related to the determination of compensation rates or methodologies are true and correct.

(b) Requiring Providers to Submit Information about New and Existing Call Centers. VRS providers shall submit a written statement to the Commission and the TRS Fund administrator containing the locations of all of their call centers that handle VRS calls, including call centers located outside the United States, twice a year, on April 1st and October 1st. In addition to the street address of each call center, the rules require that these statements contain (1) The number of individual CAs and CA managers employed at each call center; and (2) the name and contact information (phone number and e-mail address) for the managers at each call center. (2) VRS providers shall notify the Commission and the TRS Fund administrator in writing at least 30 days prior to any change to their call centers' locations, including the opening, closing, or relocation of any center.

(c) Data Filed with the Fund Administrator to Support Payment Claims. VRS providers shall provide the following data associated with each VRS call for which a VRS provider seeks compensation in its filing with the Fund Administrator: (1) The call record ID sequence; (2) CA ID number; (3) session start and end times; (4) conversation start and end times; (5) incoming telephone number and IP address (if call originates with an IP-based device) at the time of call; (6) outbound telephone number and IP address (if call terminates with an IP-based device) at the time of call; (7) total conversation minutes; (8) total session minutes; (9) the call center (by assigned center ID number) that handles the call; and (10) the URL address through which the call was initiated.

(2) All VRS and IP Relay providers shall submit speed of answer compliance data to the Fund administrator

(d) Automated Call Data Collection. TRS providers shall use an automated record keeping system to capture the following data when seeking compensation from the Fund: (1) The call record ID sequence; (2) CA ID number; (3) session start and end times, at a minimum to the nearest second; (4) conversation start and end times, at a minimum to the nearest second; (5) incoming telephone number (if call originates with a telephone) and IP address (if call originates with an IP-based device) at the time of the call; (6) outbound telephone number and IP address (if call terminates to an IP-based device) at the time of call; (7) total conversation minutes; (8) total session minutes; and (9) the call center (by assigned center ID number) that handles the call.

(e) Record Retention. Internet-based TRS providers shall retain the following data that is used to support payment claims submitted to the Fund administrator for a minimum of five years, in an electronic format: (1) The call record ID sequence; (2) CA ID number; (3) session start and end times; (4) conversation start and end times; (5) incoming telephone number and IP address (if call originates with an IP-based device) at the time of call; (6) outbound telephone number and IP address (if call terminates with an IP-based device) at the time of call; (7) total conversation minutes; (8) total session minutes; and (9) the call center (by assigned center ID number) that handles the call.

(f) Third-party Agreements. (1) VRS providers shall maintain copies of all third-party contracts or agreements so that copies of these agreements will be available to the Commission and the TRS Fund administrator upon request. Such contracts or agreements shall provide detailed information about the nature of the services to be provided by the subcontractor.

(2) VRS providers shall describe all agreements in connection with marketing and outreach activities, including those involving sponsorships, financial endorsements, awards, and gifts made by the provider to any individual or entity, in the providers' annual submissions to the TRS Fund administrator.

(g) Whistleblower Protection. TRS providers shall provide information about these TRS whistleblower protections, including the right to notify the Commission's Office of Inspector General or its Enforcement Bureau, to all employees and contractors, in writing. Providers that already disseminate their internal business policies to their employees in writing (e.g. in employee handbooks, policies and procedures manuals, or bulletin board postings—either online or in hard copy) must also explicitly include these TRS whistleblower protections in those written materials.

(h) Required Submission for Waiver Request. Potential VRS providers wishing to receive a temporary waiver of the provider's eligibility rules, shall provide, in writing, a description of the specific requirement(s) for which it is seeking a waiver, along with documentation demonstrating the applicant's plan and ability to come into compliance with all of these requirements (other than the certification requirement) within a specified period of time, which shall not exceed three months from the date on which the rules become effective. Evidence of the applicant's plan and ability to come into compliance with the new rules shall include the applicant's detailed plan for modifying its business structure and operations in order to meet the new requirements, along with submission of the following relevant documentation to support the waiver request:

• A copy of each deed or lease for each call center operated by the applicant;

• A list of individuals or entities that hold at least a 10 percent ownership share in the applicant's business and a description of the applicant's organizational structure, including the names of its executives, officers, partners, and board of directors;

• A list of all of the names of applicant's full-time and part-time employees;

• Proofs of purchase or license agreements for use of all equipment and/or technologies, including hardware and software, used by the applicant for its call center functions, including but not limited to, automatic call distribution (ACD) routing, call setup, mapping, call features, billing for compensation from the TRS fund, and registration;

• Copies of employment agreements for all of the provider's executives and CAs;

• A list of all financing arrangements pertaining to the provision of Internet-based relay service, including documentation on loans for equipment, inventory, property, promissory notes, and liens;

• Copies of all other agreements associated with the provision of Internet-based relay service;

and;

• A list of all sponsorship arrangements (e.g., those providing financial support or in-kind interpreting or personnel service for social activities in exchange for brand marketing), including any associated agreements.

Federal Communications Commission.
Marlene H. Dortch,
Secretary, Office of the Secretary, Office of Managing Director.

[FR Doc. 2011-24623 Filed 9-23-11; 8:45 am]

BILLING CODE 6712-01-P